DEPARTMENT OF ENERGY

Federal Energy Regulatory Commission

Combined Notice of Filings #1

Take notice that the Commission received the following electric corporate filings:

Docket Numbers: EC13-107-000.

Applicants: Beech Ridge Energy LLC, Bishop Hill Energy LLC, Bishop Hill Energy III LLC, Bishop Hill Interconnection LLC, California Ridge Wind Energy LLC, Forward Energy LLC, Grand Ridge Energy LLC, Grand Ridge Energy II LLC, Grand Ridge Energy III LLC, Grand Ridge Energy IV LLC, Grand Ridge Energy V LLC, Gratiot County Wind LLC, Gratiot County Wind II LLC, Invenergy TN LLC, Judith Gap Energy LLC, Sheldon Energy LLC, Spring Canyon Energy LLC, Stony Creek Energy LLC, Vantage Wind Energy LLC, Willow Creek Energy LLC, Wolverine Creek Energy LLC, Wolverine Creek Goshen Interconnection LLC, Prairie Breeze Wind Energy LLC.

Description: Supplement to May 22, 2013 Section 203 Filing of Beech Ridge Energy LLC, et al.

Filed Date: 6/10/13.

Accession Number: 20130610-5033.

Comments Due: 5 p.m. ET 6/20/13.

Take notice that the Commission received the following electric rate filings:

Docket Numbers: ER13-1139-002.

Applicants: Imperial Valley Solar 1, LLC.

Description: Imperial Valley Solar 1, LLC submit a revised horizontal market power analysis that relies on the analysis of the CASIO market submitted by Agua Caliente Solar, LLC.

Filed Date: 6/7/13.

Accession Number: 20130607-5145.

Comments Due: 5 p.m. ET 6/21/13.

Docket Numbers: ER13-1394-000.

Applicants: Indiana Michigan Power Company, American Electric Power Service Corporation, PJM Interconnection, L.L.C.

Description: AEP (I&M) submits supplemental information to clarify effective date to be effective N/A.

Filed Date: 6/7/13.

Accession Number: 20130607-5055.

Comments Due: 5 p.m. ET 6/28/13.

Docket Numbers: ER13-1647-000.

Applicants: Pacific Gas and Electric Company.

Description: Notice of Termination for Potrero Hills Energy Producers to be effective 5/22/2013.

Filed Date: 6/10/13.

Accession Number: 20130610-5000.

Comments Due: 5 p.m. ET 7/1/13.

Docket Numbers: ER13-1648-000.

Applicants: PJM Interconnection, L.L.C.

Description: Original Service Agreement No. 3529; Queue No. Y2-037 to be effective 5/9/2013.

Filed Date: 6/10/13.

Accession Number: 20130610-5031.

Comments Due: 5 p.m. ET 7/1/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 10, 2013.
Nathaniel J. Davis, Sr.,
Deputy Secretary.

[FR Doc. 2013-14316 Filed 6-14-13; 8:45 am]

BILLING CODE 6717-01-P